DEPARTMENT OF HOUSING AND URBAN DEVELOPMENT

[Docket No. FR-5657-N-01]

Notice of Availability: Funding for Tenant-Protection Vouchers for Certain At-Risk Households in Low-Vacancy Areas: Request for Comments

AGENCY: Office of General Counsel, HUD.

ACTION: Notice.

SUMMARY: HUD announces the availability, on its Web site, of instructions, eligibility, and selection criteria on the funding process for tenant protection vouchers for certain at-risk households in low-vacancy areas, as provided for in the Consolidated and Further Continuing Appropriations Act, 2012 (2012 Appropriations Act), and seeks public comment on these instructions and criteria. The instruction, eligibility and selection criteria for this funding process are set forth in a notice posted on HUD's Web site at the addresses provided in the Supplementary Information section of this notice.

DATES: Comment Due Date: October 10, 2012.

ADDRESSES: Interested persons are invited to submit comments regarding the notice posted on HUD's Web site to the Regulations Division, Office of General Counsel, Department of Housing and Urban Development, 451 7th Street SW., Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street SW., Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit comments electronically.

Note: To receive consideration as public comments, comments must be submitted through one of the two methods specified above. Again, all submissions must refer to the docket number and title of the rule. No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling the Regulations Division at 202-708-3055 (this is not a toll-free number). Individuals with speech or hearing impairments may access this number via TTY by calling the toll-free Federal Relay Service at 800-877-8339. Copies of all comments submitted are available for inspection and downloading at www.regulations.gov.

FOR FURTHER INFORMATION CONTACT: Any questions regarding this notice should be directed to the Housing Voucher and Management Operations Division, Office of Public and Indian Housing, Department of Housing and Urban Development, 451 7th Street SW., Room 4216, Washington, DC 20410-8000, telephone number 202-708-0477 (this is not a toll-free number). Individuals with speech or hearing impairments may access this number through TTY by calling the toll-free Federal Relay Service at 800-877-8339.

SUPPLEMENTARY INFORMATION:

The 2012 Appropriations Act (Pub. L. 112-55, approved November 18, 2011) provides that up to $10,000,000 of the $75,000,000 appropriated for tenant protection actions may be made available to provide housing choice voucher rental assistance to residents residing in low-vacancy areas and who may have to pay rents greater than 30 percent of household income, as the result of certain specified conditions. The 2012 Appropriations Act provides that the tenant protection assistance may be provided as either enhanced vouchers or project-based voucher assistance.

HUD's notice that provides the instructions, eligibility, and selection criteria on the funding process for tenant protection vouchers for certain at-risk households in low-vacancy areas can be found on HUD's Web site at the following addresses: http://portal.hud.gov/hudportal/HUD?src=/program_offices/administration/hudclips/notices/pih and at http://portal.hud.gov/hudportal/HUD?src=/program_offices/administration/hudclips/notices/hsg.

HUD is seeking public comment on this notice. Following receipt and consideration of public comment, a final notice will be issued with final instructions, eligibility, and selection criteria, which may include revisions to the instructions and criteria contained in the notice that has been posted on HUD's Web site, at the Web site addresses listed above.

Dated: August 30, 2012.
Camille E. Acevedo,
Associate General Counsel for Legislation and Regulations.

[FR Doc. 2012-22120 Filed 9-7-12; 8:45 am]

BILLING CODE 4210-67-P